DEPARTMENT OF DEFENSE

Department of the Army

Preparation of the PEIS for Modernization of Training Infrastructure at Pōhakuloa Training Area, HI

AGENCY: Department of the Army, DoD.

ACTION: Notice of intent.

SUMMARY: The United States Army Pacific (USARPAC) and United States Army Garrison, Hawai`i (USAG-HI) intend to prepare a Programmatic Environmental Impact Statement (PEIS) for modernizing training ranges, training support infrastructure (roads and utilities), and training support facilities in the cantonment area at Pōhakuloa Training Area (PTA) to meet better the readiness needs of military units in Hawai`i. The PEIS will evaluate PTA's long-term vision for modernizing training ranges, training support infrastructure, and the cantonment area to improve a current shortfall in collective (group) live-fire training capabilities for units stationed in Hawai`i. The PEIS also includes an analysis for constructing and operating an Infantry Platoon Battle Area (IPBA) that would include an Infantry Platoon Battle Course (IPBC), Live-fire Shoothouse, and Military Operations on Urban Terrain (MOUT) facility. The IPBC would augment the existing non-standard IPBC (located at Range 10 on PTA), which is undersized and cannot be modernized in its current footprint. The Range 10 IPBC would continue to be used for non-standard collective live-fire training exercises.

Many of the training ranges and infrastructure at PTA do not meet current doctrinal training and standard range design requirements. Many of the range assets at PTA also do not have sufficient throughput capacity to meet collective live-fire training requirements.

Alternatives analyzed in the PEIS will consider modernizing the training ranges, training support infrastructure, and the cantonment area at PTA, and a No Action alternative. Under the No Action alternative, the Army would continue utilizing current training lands and facilities as efficiently as possible.

The PEIS will also present a range of alternatives for the IPBA at either the Western Range Area of PTA, Charlie's Circle, or along the southwest side of Range 20, or to not build and operate the IPBA at all.

The primary environmental issues to be analyzed in the PEIS include (but are not limited to) air quality, traffic, biological resources, cultural resources, public services and utilities, wildfires, and hazardous materials and waste. There could be significant impacts to cultural resources, air quality, and risk from igniting wildfires. Also, we anticipate that some federally-listed threatened or endangered plants would be affected. Predicted environmental impacts associated with implementing the initial range project of constructing and operating the IPBA will be analyzed to include an increase in vehicle traffic, air quality impacts, and live-fire activities at currently underutilized range locations at PTA. The proposed action may increase the risk of igniting wildfires or may result in a loss of cultural resources. The Army will identify mitigation measures that could be implemented to reduce or eliminate adverse impacts to the environmental resources.

ADDRESSES: Written comments may be addressed to PTA PEIS, P.O. Box 514, Honolulu, HI 96809; facsimiles may be sent to (808) 545-6808; e-mail may be addressed to PTAPEIS@bah.com.

FOR FURTHER INFORMATION CONTACT: USAG-HI Public Affairs by phone at (808) 656-3152 during normal business hours Monday through Friday 9 a.m. to 5 p.m. HST.

SUPPLEMENTARY INFORMATION: The proposed action considers modernizing the training ranges, training support infrastructure, and the cantonment area at PTA. The Army's proposed action is supportive of Training Circular 25-8 Training Ranges (TC 25-8), the National Security Strategy (NSS, 2010) and the Quadrennial Defense Review (QDR 2010); these strategic documents have been incorporated into the Army's decision making process. The purpose of the proposed action (modernization) is to reduce a shortfall in collective live-fire training capability in Hawai'i and improve the infrastructure that supports the training capability.

An IPBC is used to train and test infantry platoons, either mounted or dismounted, on the skills necessary to conduct tactical movement techniques and detect, identify, engage, and defeat stationary and moving infantry and armor targets in a tactical array. A standard IPBC is approximately 500 meter (m) wide at the initial engagement entry point and 1,500m wide at the final engagement point and 4,000m long. The Army plans to construct an IPBC that would be 1,000m wide at the initial engagement entry point to add flexibility for unit commanders to train against additional objectives supporting combat scenarios experienced in the contemporary combat environment.

A Live-fire Shoothouse and MOUT facility would be sited in the immediate vicinity of the IPBC. The Shoothouse would provide Army unit leaders with a facility to train and evaluate the unit during a live-fire exercise. Soldiers would fire small arms weapons at targets within the facility. The range would include associated range operations and control facilities, an operations/storage building, latrine, and after-action review (AAR) facility. The primary facility of the Shoothouse would be a two-story building approximately 4,700 square feet, with stairways and a roof.

The MOUT facility would include the construction or placement of approximately 24 modular structures to replicate small villages for units to complete training tasks in an urban/semi-urban operating environment. There is no standard design for a MOUT facility. The MOUT facility footprint at PTA would be approximately 800 feet by 800 feet or 640,000 square feet.

Predicted environmental impacts associated with the modernization of PTA may include actions that have both positive (beneficial) and adverse impacts to the environmental resources at PTA.

Each proposed IPBA live-fire alternative location under consideration is either in or directly adjacent to the existing impact area at PTA.

Based on public scoping and factors discussed above, the Army will refine its range of reasonable alternatives to the extent possible to accommodate mission requirements. In reaching this decision, the Army will assess and consider public concerns.

Scoping and Public Comment: All interested members of the public, including Federally recognized Indian Tribes, Native Hawai`ian groups, and Federal, state, and local agencies are invited to participate in the scoping process for the preparation of this PEIS. Written comments identifying environmental issues, concerns and opportunities to be analyzed in the PEIS will be accepted for 45 days following publication of the Notice of Intent in the Federal Register. Scoping meetings will be held on the Island of Hawai'i. Notification of the times and locations for the scoping meetings will be published in local newspapers.

Dated: December 16, 2010.
Hershell E. Wolfe,
Acting Deputy Assistant Secretary of the Army (Environment, Safety, and Occupational Health).

[FR Doc. 2010-32177 Filed 12-22-10; 8:45 am]

BILLING CODE 3710-08-P